ENVIRONMENTAL PROTECTION AGENCY

[EPA-HQ-OW-2016-0178; FRL-9952-00-OEI]

Information Collection Request Submitted to OMB for Review and Approval; Comment Request; EPA Application Materials for the Water Infrastructure Finance and Innovation Act

AGENCY: Environmental Protection Agency (EPA).

ACTION: Notice.

SUMMARY: The Environmental Protection Agency has submitted an information collection request (ICR), “EPA Application Materials for the Water Infrastructure Finance and Innovation Act” (EPA ICR No. 2549.01, OMB Control No. 2040-NEW) to the Office of Management and Budget (OMB) for review and approval in accordance with the Paperwork Reduction Act (44 U.S.C. 3501 et seq.). This is a request for approval of a new collection. Public comments were previously requested via the Federal Register (81 FR 32327) on May 23, 2016 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before October 11, 2016.

ADDRESSES: Submit your comments, referencing Docket ID Number EPA-HQ-OW-2016-0178, to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Karen Fligger, Water Infrastructure Division, Office of Wastewater Management, 4201-T, Environmental Protection Agency, 1200 Pennsylvania Ave. NW., Washington, DC 20460; telephone number: 202-564-2992; email address: fligger.karen@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The collection of information is necessary in order to receive applications for credit assistance pursuant to section 5024 of the Water Infrastructure Finance and Innovation Act (WIFIA) of 2014, 33 U.S.C. 3903. The purpose of the WIFIA program is to provide Federal credit assistance in the form of direct loans and loan guarantees to eligible water infrastructure projects.

WIFIA requires that an eligible entity shall submit to the Administrator an application at such time, in such manner, and containing such information, as the Administrator may require to receive assistance under WIFIA. In order to satisfy these requirements, EPA must collect an application from applicants seeking funding. The Letters of Interest and Applications collected from loan applicants through this solicitation will be used by EPA, the WIFIA program office, and an evaluation team to determine whether each proposed project meets creditworthiness and other Federal requirements to receive WIFIA credit assistance.

Form Numbers: None.

Respondents/affected entities: The Letters of Interest and Applications collected from loan applicants through this solicitation will be used by EPA to evaluate requests for credit assistance under the WIFIA eligibility requirements and selection criteria.

Respondent's obligation to respond: Required to obtain credit assistance pursuant to section 5024 of WIFIA, 33 U.S.C. 3903.

Estimated number of respondents: 25 per year (total).

Frequency of response: one per respondent.

Total estimated burden: 1,500 hours (per year). Burden is defined at 5 CFR 1320.03(b).

Total estimated cost: $3,064,594 (per year), includes $3,005,000 non-labor costs.

Spencer Clark,
Acting Director, Regulatory Support Division.

[FR Doc. 2016-21592 Filed 9-7-16; 8:45 am]

BILLING CODE 6560-50-P